DEPARTMENT OF DEFENSE

Department of the Army

Finding of No Significant Impact and Final Supplemental Programmatic Environmental Assessment for Army 2020 Force Structure Realignment

AGENCY: Department of the Army, DoD.

ACTION: Notice of availability.

SUMMARY: The Department of the Army announces the availability of the Finding of No Significant Impact (FNSI) for implementation of force structure realignment to reduce the Army active duty end-strength from 562,000 at the end of Fiscal Year (FY) 2012 to 420,000 by FY 2020. The Supplemental Programmatic Environmental Assessment for Army 2020 Force Structure Realignment (SPEA) supplements the 2013 Programmatic Environmental Assessment (PEA). After reviewing the SPEA and comments received during the public review period, the Deputy Chief of Staff of the Army, G-3/5/7 has signed the FNSI that concluded there will be no significant environmental impacts, other than socioeconomic impacts, likely to result from the implementation of the Proposed Action under the alternative analyzed. Although there could be significant socioeconomic impacts, these alone do not require the preparation of an Environmental Impact Statement; therefore, one will not be prepared.

Force restructure decisions reducing the Army active duty end-strength from 562,000 to 490,000 were supported by the 2013 PEA. The SPEA builds on the foundation of the 2013 PEA and assesses the impacts of a potential reduction of an additional 70,000 Soldiers and associated Army civilian employees (Army employees), from the end-strength of 490,000 Soldiers analyzed in the 2013 PEA to an active component end-strength of 420,000.

The information in the SPEA will be used to support a series of decisions in the coming years regarding how the force is to be further realigned.

An electronic version of the FNSI and SPEA is available for download at: http://aec.army.mil/Services/Support/NEPA/Documents.aspx.

FOR FURTHER INFORMATION CONTACT: U.S. Army Environmental Command, Public Affairs Office, 2450 Connell Road (Building 2264), Joint Base San Antonio-Fort Sam Houston, TX 78234-7664 or email to usarmy.jbsa.aec.nepa@mail.mil.

SUPPLEMENTARY INFORMATION: Both the 2013 PEA and 2014 SPEA analyzed potential reductions at Fort Benning, GA; Fort Bliss, TX; Fort Bragg, NC; Fort Campbell, KY; Fort Carson, CO; Fort Drum, NY; Fort Gordon, GA; Fort Hood, TX; Fort Irwin, CA; Fort Knox, KY; Fort Lee, VA; Fort Leonard Wood, MO; Fort Polk, LA; Fort Riley, KS; Fort Sill, OK; Fort Stewart, GA; Fort Wainwright, AK; Joint Base Elmendorf-Richardson, AK; Joint Base Langley-Eustis, VA; Joint Base Lewis-McChord, WA; and, United States Army Garrison (USAG) Hawaii—Schofield Barracks, HI. The SPEA also analyzed potential reductions at Aberdeen Proving Ground, MD; Fort Belvoir, VA; Fort Huachuca, AZ; Fort Jackson, SC; Fort Leavenworth, KS; Fort Meade, MD; Fort Rucker, AL; Joint Base San Antonio—Fort Sam Houston, TX; and USAG Hawaii—Fort Shafter, HI.

The SPEA provides an assessment of the possible direct, indirect, and cumulative environmental and socioeconomic impacts of the greatest Army employee reductions being considered at each installation. The SPEA does not identify any significant environmental impacts as a result of implementing the proposed action, with the exception of socioeconomic impacts at most installations; consequently, the preparation of an environmental impact statement is not required. Socioeconomic impacts are of particular concern to the Army because they affect communities around military installations. Therefore, the SPEA has a comprehensive analysis of the socioeconomic impacts to inform decision-makers and communities.

Brenda S. Bowen,
Army Federal Register Liaison Officer.

[FR Doc. 2014-26724 Filed 11-13-14; 8:45 am]

BILLING CODE 3710-08-P